DEPARTMENT OF JUSTICE

[OMB Number: 1105-NEW]

Agency Information Collection Activities; Proposed eCollection eCommentsRequested; New Comments requested; Title—Healthcare Competition Complaint Form

AGENCY: Antitrust Division, Department of Justice.

ACTION: 30-Day notice.

SUMMARY: The Department of Justice (DOJ), Antitrust Division (ATR), will be submitting the following information collection request to the Office of Management and Budget (OMB) for review and approval in accordance with the Paperwork Reduction Act of 1995.

DATES: Comments are encouraged and will be accepted for 30 days until October 10, 2025.

FOR FURTHER INFORMATION CONTACT: If you have additional comments especially on the estimated public burden or associated response time, suggestions, or need a copy of the proposed information collection instrument with instructions or additional information, please contact Sarah Oldfield, Deputy Chief Legal Advisor, Antitrust Division, United States Department of Justice, 950 Pennsylvania Street NW, Room 3304, Washington, DC 20530 (phone: 202-305-8915).

SUPPLEMENTARY INFORMATION: The proposed information collection was previously published in the Federal Register on May 1, 2025, 90 FR 18709, allowing a 60-day comment period. Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: New information collection.

2. The Title of the Form/Collection: Healthcare Competition Complaint form.

3. The agency form number, if any, and the applicable component of the Department sponsoring the collection: The applicable component within the Department of Justice is the Antitrust Division.

4. Affected public who will be asked or required to respond, as well as a brief abstract: Primary respondents will be individuals or households.

Abstract: The Healthcare Competition Complaint form facilitates reporting by members of the public of complaints, concerns, or information regarding potential antitrust violations. Respondents will be able to complete and submit information electronically through the Healthcare Competition Complaint form on the Department of Justice's website.

5. An estimate of the total number of respondents and the amount of time estimated for an average respondent to respond: 2345 respondents annually and 12 minutes for an individual to respond.

6. An estimate of the total public burden (in hours) associated with the collection: 28,140 annual burden hours.

If additional information is required contact: Darwin Arceo, Department Clearance Officer, United States Department of Justice, Justice Management Division, Enterprise Portfolio Management, Two Constitution Square, 145 N Street NE, 4W-218, Washington, DC 20530.

Dated: September 8, 2025.
Darwin Arceo,
Department Clearance Officer for PRA, U.S. Department of Justice.

[FR Doc. 2025-17434 Filed 9-10-25; 8:45 am]

BILLING CODE 4410-11-P